DEPARTMENT OF DEFENSE

Office of the Secretary

[Req No.-OS-2024-00040-FR]

Notice of Availability of Roundtable on Military Spouse Hiring Meeting

AGENCY: Under Secretary of Defense for Personnel and Readiness (USD(P&R)), Department of Defense (DoD).

ACTION: Notice of roundtable on military spouse hiring.

SUMMARY: The DoD is publishing this notice to announce the Roundtable on Military Spouse Hiring will take place pursuant to the 2023 National Defense Authorization Act (NDAA). This Roundtable will bring together stakeholders from the government, private sector, and military families, to discuss the landscape of opportunities and challenges surrounding military spouse hiring.

DATES: Thursday, November 16, 2023 from 9 a.m. to 3 p.m. Eastern Standard Time (EST).

ADDRESSES: Mark Center Conference Room 17, 4800 Mark Center Drive, Alexandria, VA 22311.

FOR FURTHER INFORMATION CONTACT: Josie Beets, josie.e.beets.civ@mail.mil, (202) 570-8977; mailing address: 4800 Mark Center Drive, Alexandria, VA 22311.

SUPPLEMENTARY INFORMATION: In compliance with the 2023 NDAA, section 578, USD(P&R) announces an industry roundtable on military spouse hiring.

Authority: Sec. 578, Public Law 117-263, Stat. 2395.

Purpose: The purpose of the roundtable is to bring together stakeholders from the government, private sector, and military families, to discuss the landscape of opportunities and challenges surrounding military spouse hiring, the resources available within the DoD, and the role of industry. The roundtable seeks to foster dialogue and collaboration that can pave the way for military spouses to access fulfilling career opportunities while enhancing the talent pool for private entities and filling labor market gaps. The outcomes of this roundtable will be briefed to the Committees on Armed Services of the Senate and House of Representatives.

The Roundtable will include inputs and discussions from the Military Spouse Employment Partnership Annual Partner Meeting, where private industry along with military spouses, Federal agencies, and nonprofit partners gather to network, learn, and provide feedback on how to increase military spouse employment.

The roundtable will also include a meeting on November 16, 2023 from 9 a.m. to 3 p.m. EST on what the DoD can do to impact military spouse hiring both internally and in partnership with private entities. This conversation will focus on the DoD's existing resources for spouses, processes that need to change to increase DoD and Component hiring of spouses, and the capacity to increase support and awareness of available resources. Participants will include the USD (P&R), the Assistant Secretary for Manpower and Reserve Affairs of each Military Department, the Director of the Defense Human Resources Activity, other officials of the DoD the Secretary of Defense determines appropriate, and private entities that participate.

Written Statements: The public or interested organizations may submit written comments. Individuals submitting a written statement must submit their statement to Ms. Josie Beets at the email address provided in the FOR FURTHER INFORMATION CONTACT section no later than November 20, 2023. Written statements received may be considered by the participants at a later date.

Dated: November 9, 2023.
Aaron T. Siegel,
Alternate OSD Federal Register Liaison Officer, Department of Defense.

[FR Doc. 2023-25264 Filed 11-15-23; 8:45 am]

BILLING CODE 6001-FR-P